DEPARTMENT OF ENERGY

Federal Energy Regulatory Commission

[Project Nos. 349-134 and 2407-121]

Alabama Power Company; Notice of Availability Of Environmental Assessment

November 19, 2007.

An environmental assessment (EA) is available for public review. The EA was prepared for an application filed by Alabama Power Company (licensee) on October 23, 2007, and supplemented on November 14, 2007, requesting Commission approval for a drought-based temporary variance to the Martin Project (FERC No. 349) rule curve and associated temporarily modified minimum flows from the Thurlow development of the Yates and Thurlow Project (FERC No. 2407). The projects are located on the Tallapoosa River in the counties of Coosa, Elmore and Tallapoosa, Alabama.

The EA evaluates the environmental impacts that would result from approving the licensee's temporary variance to the Martin Project rule curve and associated minimum flow modification from the Thurlow Development. The EA finds that approval of the application would not constitute a major federal action significantly affecting the quality of the human environment.

A copy of the EA is available for review in the Commission's Public Reference Room. A copy of the EA may also be viewed on the Commission's Web site at http://www.ferc.gov using the “eLibrary” link. Enter the docket number (P-349) in the docket number field to access the document. For assistance, contact FERC Online Support at FERCOnlineSupport@ferc.gov or toll-free at 1-866-208-3676, or for TTY, (202) 502-8659.

Kimberly D. Bose,
Secretary.

[FR Doc. E7-23039 Filed 11-26-07; 8:45 am]

BILLING CODE 6717-01-P